DEPARTMENT OF COMMERCE

Foreign-Trade Zones Board

[B-64-2021]

Foreign-Trade Zone 218—St. Lucie County, Florida, Application for Reorganization Under Alternative Site Framework

An application has been submitted to the Foreign-Trade Zones (FTZ) Board by St. Lucie County, Florida, grantee of FTZ 218, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on September 17, 2021.

FTZ 218 was approved by the FTZ Board on October 24, 1996 (Board Order 851, 61 FR 58036, November 12, 1996). The current zone includes the following sites: Site 1 (1,063 acres)—St. Lucie County International Airport, 3000 Curtis King Boulevard, Fort Pierce; Site 2 (102 acres)—Kings Highway Industrial Park, Kings Highway and Commerce Circle, Fort Pierce; Site 3 (315 acres)—St. Lucie West Commerce Park, 590 NW Peacock Boulevard, Port St. Lucie; and, Site 4 (15 acres)—Crossroads Commerce Park, State Road 70 and I-95, Fort Pierce.

The grantee's proposed service area under the ASF would be St. Lucie County, Indian River County and Okeechobee County, Florida, as described in the application. If approved, the grantee would be able to serve sites throughout the service area based on companies' needs for FTZ designation. The application indicates that the proposed service area is within and adjacent to the Fort Pierce U.S. Customs and Border Protection Customs Station.

The applicant is requesting authority to reorganize its existing zone to include all of the existing sites as “magnet” sites. The ASF allows for the possible exemption of one magnet site from the “sunset” time limits that generally apply to sites under the ASF, and the applicant proposes that Site 1 be so exempted. No subzones/usage-driven sites are being requested at this time.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is November 22, 2021. Rebuttal comments in response to material submitted during the foregoing period may be submitted during the subsequent 15-day period to December 7, 2021.

A copy of the application will be available for public inspection in the “Online FTZ Information Section” section of the FTZ Board's website, which is accessible via www.trade.gov/ftz. For further information, contact Christopher Kemp at Christopher.Kemp@trade.gov.

Dated: September 17, 2021.
Andrew McGilvray,
Executive Secretary.

[FR Doc. 2021-20586 Filed 9-22-21; 8:45 am]

BILLING CODE 3510-DS-P